NATIONAL CREDIT UNION ADMINISTRATION

Sunshine Act: Notice of Agency Meeting

TIME AND DATE: 10:00 a.m., Thursday, April 30, 2015.

PLACE: Board Room, 7th Floor, Room 7047, 1775 Duke Street (All visitors must use Diagonal Road Entrance), Alexandria, VA 22314-3428.

STATUS: Open.

MATTERS TO BE CONSIDERED: 1. NCUA's Rules and Regulations, Associational Common Bonds.

2. NCUA's Rules and Regulations, Corporate Credit Unions, Technical Amendments.

3. NCUA's Rules and Regulations, Aggregate Lending Limit for Corporate Credit Unions.

4. NCUA's Rules and Regulations, Adding Share Insurance Coverage under IOLTA.

5. NCUA's Rules and Regulations, Exemption Request by State of Connecticut Department of Banking.

6. Board Briefing, Interagency Rule, Minimum Requirements for Appraisal Management Companies.

7. Share Insurance Fund Quarterly Report.

FOR FURTHER INFORMATION CONTACT: Gerard Poliquin, Secretary of the Board, Telephone: 703-518-6304.

Gerard Poliquin,
Secretary of the Board.

[FR Doc. 2015-09856 Filed 4-23-15; 4:15 pm]

BILLING CODE 7535-01-P